NATIONAL AERONAUTICS AND SPACE ADMINISTRATION

[Notice: (24-008)]

Heliophysics Advisory Committee; Space Weather Council; Meeting

AGENCY: National Aeronautics and Space Administration.

ACTION: Notice of meeting.

SUMMARY: In accordance with the Federal Advisory Committee Act, the National Aeronautics and Space Administration (NASA) announces a meeting of the Space Weather Council (SWC). The SWC is a subcommittee of the Heliophysics Advisory Committee, which functions in an advisory capacity to the Director, Heliophysics Division, in the NASA Science Mission Directorate. The meeting will be held for the purpose of soliciting, from the science community and other persons, scientific and technical information relevant to program planning.

DATES: Thursday, February 22, 2024, 9 a.m.-5 p.m.; and Friday, February 23, 2024, 9 a.m.-5 p.m. eastern time.

ADDRESSES: Meeting will be virtual. See Webex and dial-in information below.

FOR FURTHER INFORMATION CONTACT: Mrs. Karshelia Kinard, Science Mission Directorate, NASA Headquarters, Washington, DC 20546, (202) 358-2355 or karshelia.kinard@nasa.gov.

SUPPLEMENTARY INFORMATION: This meeting will only be available by Webex or dial-in for members of the public. Any interested person may join via Webex at https://nasaenterprise.webex.com, the meeting number is 2761 312 2137, and the password is SWCWinter2024! (case sensitive), both days. To join by dial-in telephone call, use US Toll +1-415-527-5035 (Access code: 2761 312 2137), both days, to participate in this meeting.

The agenda for the meeting includes the following topics:

• Discussion of Space Weather Council future advisory topics and activities such as:

○ Coordination of Space Weather Council with Other Space Weather Groups

○ Space Weather Science and Modeling Gap Analysis

○ Space Weather and Deep Space Exploration

○ Research to Operations to Research Process

Patricia Rausch,
Advisory Committee Management Officer, National Aeronautics and Space Administration.

[FR Doc. 2024-02869 Filed 2-12-24; 8:45 am]

BILLING CODE P